DEPARTMENT OF HOUSING AND URBAN DEVELOPMENT

[Docket No. FR-5831-N-47]

30-Day Notice of Proposed Information Collection: Rental Assistance Demonstration (RAD) Application Forms

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: November 4, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov

FOR FURTHER INFORMATION CONTACT: Colette Pollard, Reports Management Officer, QMAC, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A.

The Federal Register notice that solicited public comment on the information collection for a period of 60 days was published on July 31, 2015 at 80 FR 45673.

A. Overview of Information Collection

Title of Information Collection: Rental Assistance Demonstration (RAD) Application Form.

OMB Approval Number: 2577-0278.

Type of Request: Revision of a currently approved collection.

Form Number: HUD-5260 RAD Application.

Description of the need for the information and proposed use: The Rental Assistance Demonstration allows Public Housing, Rent Supplement, Rental Assistance Payment, and Moderate Rehabilitation (Mod Rehab) properties to convert to long-term Section 8 rental assistance contracts. Participation in the initiative is voluntary. Public Housing Agencies interested in participating in the Demonstration are required to submit applications to HUD. The attached application will be used to determine eligibility for Public Housing projects only. HUD intends through the conversion process, to assure the physical and financial sustainability of properties and enable owners to leverage private financing to address immediate and long-term capital needs, improve operations, and implement energy efficiency improvements. The RAD application is Excel based and will be pre-populated with data the Department collects and maintains for each housing agency. Information collected by the applications will allow the Department to determine which applicants meet the eligibility requirements and have the capacity to successfully meet RAD's mission delineated in PIH Notice PIH-2012-32, REV-2: Rental Assistance Demonstration—Partial Implementation and Request for Comments. To review the current version of the application, please visit the RAD Web site: www.hud.gov/rad/. Under the `For Public Housing Providers' tab, navigate to the Application Material section, and links are provided for each state.

Obtain the current Public Housing Application: http://portal.hud.gov/hudportal/documents/huddoc?id=RAD_App_PH.xlsx.

Respondents: State, Local or Tribal Government.

Estimated Number of Respondents: The estimated number of respondents is 5,900 annually with one response per respondent.

Estimated Number of Responses: 5,900.

Frequency of Response: Once.

Average Hours per Response: 2 Hours.

Total Estimated Burdens: 11,800.

Information collection | Number of respondents | Frequency of response | Responses per annum | Burden hour per response | Annual burden hours | Hourly cost per response | Annual cost
Public Housing RAD—Application Form | 5,900 | 1 | 5,900 | 2 | 11,800 | $40 | $472,000
Total | 5,900 |  | 5,900 |  | 11,800 |  | 472,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: 12 U.S.C. 1701z-1 Research and Demonstrations.

Dated: September 30, 2015.
Colette Pollard,
Department Reports Management Officer, Office of the Chief Information Officer.

[FR Doc. 2015-25259 Filed 10-2-15; 8:45 am]

BILLING CODE 4210-67-P